DEPARTMENT OF JUSTICE

[OMB Number 1117-0031]

Agency Information Collection Activities; Proposed eCollection eComments Requested; Extension Without Change of a Previously Approved Collection; Application for Registration Under Domestic Chemical Diversion Control Act of 1993 (DEA Form 510); Renewal Application for Registration Under Domestic Chemical Diversion Control Act of 1993 (DEA Form 510A)

AGENCY: Drug Enforcement Administration, Department of Justice.

ACTION: 60-Day notice.

SUMMARY: The Department of Justice (DOJ), Drug Enforcement Administration (DEA), will be submitting the following information collection request to the Office of Management and Budget (OMB) for review and approval in accordance with the Paperwork Reduction Act of 1995.

DATES: Comments are encouraged and will be accepted for 60 days until September 5, 2025.

FOR FURTHER INFORMATION CONTACT: If you have additional comments especially on the estimated public burden or associated response time, suggestions, or need a copy of the proposed information collection instrument with instructions or additional information, please contact Heather E. Achbach, Regulatory Drafting and Policy Support Section, Drug Enforcement Administration; Mailing Address: 8701 Morrissette Drive, Springfield, Virginia 22152; Telephone: (571) 776-3882; Email: Heather.E.Achbach@dea.gov or DEA.PRA@dea.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Extension of a currently approved collection.

2. Title of the Form/Collection: Application for Registration under Domestic Chemical Diversion Control Act of 1993 (DEA Form 510); Renewal Application for Registration under Domestic Chemical Diversion Control Act of 1993 (DEA Form 510A).

3. The agency form number, if any, and the applicable component of the Department sponsoring the collection: DEA Form 510 and DEA Form 510A. The applicable component within the Department of Justice is the Drug Enforcement Administration, Diversion Control Division.

4. Affected public who will be asked or required to respond, as well as a brief abstract:Affected public (Primary): Business or other for-profit. Affected public (Other): Not-for-profit institutions; Federal, State, local, and tribal governments.

Abstract: The DEA implements the Controlled Substances Act (CSA) which requires that every person who manufactures or distributes a list I chemical shall annually obtain a registration for that purpose. The DEA will be revising the proposed information collection instruments concerning the liability questions on the Application for Registration under Domestic Chemical Diversion Control Act of 1993; and Renewal Application for Registration under Domestic Chemical Diversion Control Act of 1993. Over the years, many applicants have answered some of the liability questions incorrectly. These changes will avoid confusion to the applicant by separating compound questions into multiple parts that will require the applicant to answer them individually.

5. An estimate of the total number of respondents and the amount of time estimated for an average respondent to respond: DEA estimates that 764 registrants participate in this information collection, taking an estimated 764 mins per registrant annually.

6. An estimate of the total public burden (in hours) associated with the proposed collection: DEA estimates that this collection takes 156 annual burden hours.

7. An estimate of the total annual cost burden associated with the collection, if applicable: $0.

Total Burden Hours
Activity | Number of respondents | Frequency | Total annual responses | Time per response (hours) | Total annual burden (hours)
DEA 510 | 161 | 1 | 161 | 0.33 (20 minutes) | 53
DEA 510a | 603 | 1 | 603 | 0.17 (10 minutes) | 103
Unduplicated Total | 764 | 1 | 764 | 0.204 | 156

If additional information is required contact: Darwin Arceo, Department Clearance Officer, United States Department of Justice, Justice Management Division, Policy and Planning Staff, Two Constitution Square, 145 N Street NE, 4W-218, Washington, DC.

Dated: July 2, 2025.
Darwin Arceo,
Department Clearance Officer for PRA, U.S. Department of Justice.

[FR Doc. 2025-12568 Filed 7-3-25; 8:45 am]

BILLING CODE 4410-09-P